DEPARTMENT OF ENERGY

Federal Energy Regulatory Commission

Notice of Commission Staff Attendance

The Federal Energy Regulatory Commission (Commission) hereby gives notice that members of the Commission's staff may attend the following meetings related to the transmission planning activities of Tucson Electric Power Company, UNS Electric, Inc., Public Service Company of New Mexico, Arizona Public Service Company, El Paso Electric Company, Black Hills Power, Inc., Black Hills Colorado Electric Utility Company, LP, Cheyenne Light, Fuel, & Power Company, NV Energy, Inc.; and Xcel Energy Services, Inc. on behalf of Public Service Company of Colorado:

WestConnect Regional Planning Stakeholder Meeting—November 16, 2017, 9 a.m.-4 p.m. (MST)

Planning Management Committee Meeting—December 20, 2017, 9 a.m.-3 p.m. (MST)

Planning Management Committee Meeting—January 17, 2018, 9 a.m.-3 p.m. (MST)

The November 16, 2017 WestConnect Regional Planning Stakeholder Meeting and the December 20, 2017 Planning Management Committee Meeting will be held at: SRP Pera Club, 1 E Continental Dr., Tempe, AZ 85281.

The January 17, 2018 Planning Management Committee Meeting will be held at: APS Headquarters, 500 N 5th St., Phoenix, AZ 85004.

The above-referenced meetings will be available via web conference and teleconference.

The above-referenced meetings are open to stakeholders.

Further information may be found at http://www.westconnect.com/.

The discussions at the meetings described above may address matters at issue in the following proceeding:

ER13-75, Public Service Company of New Mexico; El Paso Electric Company

ER17-2559, California Independent System Operator Corporation, the Salt River Project Agricultural Improvement and Power District

For more information contact Nicole Cramer, Office of Energy Market Regulation, Federal Energy Regulatory Commission at (202) 502-6775 or nicole.cramer@ferc.gov.

Dated: November 13, 2017.
Kimberly D. Bose,
Secretary.

[FR Doc. 2017-25080 Filed 11-17-17; 8:45 am]

BILLING CODE 6717-01-P